DEPARTMENT OF ENERGY

10 CFR Part 431

[Docket Number EERE-2008-BT-STD-0015]

RIN 1904-AB86

Energy Conservation Program: Energy Conservation Standards for Walk-in Coolers and Freezers

AGENCY: Office of Energy Efficiency and Renewable Energy, Department of Energy.

ACTION: Publication of determination.

SUMMARY: The Energy Policy and Conservation Act of 1975 (EPCA), as amended, prescribes that the U.S. Department of Justice (DOJ) make a determination on the impact, if any, on the lessening of competition likely to result from a U.S. Department of Energy (DOE) proposed rule for energy conservation standards and that DOE publish the determination in the Federal Register. DOE published its final rule for energy conservation standards for walk-in coolers and freezers on June 3, 2014, and is today publishing DOJ's determination on such proposed rule.

DATES: February 24, 2015.

FOR FURTHER INFORMATION CONTACT: Mr. John Cymbalsky, U.S. Department of Energy, Office of Energy Efficiency and Renewable Energy, Building Technologies Program, EE-5B, 1000 Independence Avenue SW., Washington, DC 20585-0121. Telephone: (202) 287-1692. Email: walk-in_coolers_and_walk-in_freezers@EE.Doe.Gov.

Mr. Michael Kido, U.S. Department of Energy, Office of the General Counsel, GC-71, 1000 Independence Avenue SW., Washington, DC, 20585-0121. Telephone: (202) 586-8145. Email: Michael.Kido@hq.doe.gov.

SUPPLEMENTARY INFORMATION: On June 3, 2014, DOE published a final rule for walk-in coolers and walk-in freezers in which DOE amended the energy conservation standards for certain walk-in cooler and walk-in freezer components. Those standards were determined by DOE to be technologically feasible and economically justified and would result in the significant conservation of energy. The Energy Conservation and Policy Act of 1975 (42 U.S.C.6291, et seq; “EPCA”), Public Law 94-163, requires that the Attorney General make a determination and analysis of the impact, if any, of any lessening of competition likely to result from a proposed standard, within 60 days of publication. (42 U.S.C. 6295(o)(2)(B)(ii)) EPCA also requires that DOE publish the determination and analysis in the Federal Register. Id.

DOE received the determination in response to the September 11, 2013 NOPR from the Attorney General and the U.S. Department of Justice on November 13, 2013. Accordingly, DOE is publishing that determination in today's notice.

Issued in Washington, DC, on February 12, 2015.
Kathleen B. Hogan,
Deputy Assistant Secretary for Energy Efficiency, Energy Efficiency and Renewable Energy.

U.S. DEPARTMENT OF JUSTICE

Antitrust Division

WILLIAM J. BAER

Assistant Attorney General

Main Justice Building

950 Pennsylvania Avenue, N.W.

Washington, D.C. 20530-0001

(202) 514-2401 I (202) 616-2645 (Fax)

November 12, 2013

Eric J. Fygi

Deputy General Counsel Department of Energy Washington, D.C. 20585

Re: Walk In Coolers & Freezers Energy Conservation Standards Dear Deputy General Counsel Fygi:

I am responding to your September 10, 2013 letter seeking the views of the Attorney General about the potential impact on competition of proposed energy conservation standards for walk-in coolers and refrigerators. Your request was submitted under Section 325(o)(2)(B)(i)(V) of the Energy Policy and Conservation Act, as amended (ECPA), 42 U.S.C. 6295(o)(2)(B)(i)(V), which requires the Attorney General to make a determination of the impact of any lessening of competition that is likely to result from the imposition of proposed energy conservation standards. The Attorney General's responsibility for responding to requests from other departments about the effect of a program on competition has been delegated to the Assistant Attorney General for the Antitrust Division in 28 CFR § 0.40(g).

In conducting its analysis the Antitrust Division examines whether a proposed standard may lessen competition, for example, by substantially limiting consumer choice, by placing certain manufacturers at an unjustified competitive disadvantage, or by inducing avoidable inefficiencies in production or distribution of particular products. A lessening of competition could result in higher prices to manufacturers and consumers, and perhaps thwart the intent of the revised standards by inducing substitution to less efficient products.

We have reviewed the proposed standards contained in the Notice of Proposed Rulemaking (78 FR 55781, September 11, 2013) (NOPR). We have also reviewed supplementary information submitted to the Attorney General by the Department of Energy, including a transcript of the public meeting held on the proposed standards on October 9, 2013. Based on this review, our conclusion is that the proposed energy conservation standards for walk-in coolers and freezers are unlikely to have a significant adverse impact on competition.

Sincerely,

William J. Baer

Enclosure

[FR Doc. 2015-03557 Filed 2-23-15; 8:45 am]

BILLING CODE 6450-01-P